DEPARTMENT OF AGRICULTURE

Food and Nutrition Service

Agency Information Collection Activities: Proposed Collection; Comment Request—Study of School Food Authority (SFA) Procurement Practices

AGENCY: Food and Nutrition Service (FNS), United States Department of Agriculture (USDA).

ACTION: Notice and request for comments.

SUMMARY: In accordance with the Paperwork Reduction Act of 1995, this notice invites the general public and other public agencies to comment on this proposed information collection. This collection is a new information collection for the Study of School Food Authority (SFA) Procurement Practices. This study is intended to describe and assess the practices of SFAs related to procuring goods and services for school meal programs (e.g., National School Lunch Program [NSLP], and the School Breakfast Program [SBP]), and to better understand how SFAs make decisions that lead to these procurement practices. The SFA Procurement Practices study will go beyond previous studies that concentrated on single food service or Child Nutrition programs (e.g., NSLP, SBP, or the Summer Food Service Program [SFSP]) or studies that focused on single procurement practices (e.g., use of Food Service Management Companies [FSMCs]) at the SFA level.

This collection includes a mixed-methods approach of qualitative and quantitative information utilizing a structured web-based survey, as well as in-depth interviews (IDIs) to be conducted by telephone. Data will be collected from a subsample of the SFA population participating in the second year of the Child Nutrition Program Operations Study-II (CN-OPS II) (OMB Number 0584-0607).

DATES: Written comments must be received on or before October 19, 2018.

ADDRESSES: Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Ashley Chaifetz, Ph.D., Social Science Research Analyst, Special Nutrition Evaluation Branch, Food and Nutrition Service, USDA, 3101 Park Center Drive, Alexandria, VA 22302. Comments may also be submitted via fax to the attention of Ashley Chaifetz at 703-305-2576 or via email to Ashley.Chaifetz@fns.usda.gov. Comments will also be accepted through the Federal eRulemaking Portal. Go to http://www.regulations.gov and follow the online instructions for submitting comments electronically.

All responses to this notice will be summarized and included in the request for Office of Management and Budget (OMB) approval. All comments will be a matter of public record.

FOR FURTHER INFORMATION CONTACT: To request more information on the proposed project, contact Ashley Chaifetz, Ph.D., Social Science Research Analyst, Special Nutrition Evaluation Branch, Food and Nutrition Service, USDA, 3101 Park Center Drive, Alexandria, VA 22302; Fax: 703-305-2576; Email: Ashley.Chaifetz@fns.usda.gov.

SUPPLEMENTARY INFORMATION:

Title: Study of School Food Authority (SFA) Procurement Practices (SFA Procurement Practices Study).

Form Number: N/A.

OMB Number: Not yet assigned.

Expiration Date: Not yet determined.

Type of Request: New collection.

Abstract: The SFA Procurement Practices Study will describe and evaluate the decision-making processes of SFAs regarding school food procurement practices. Using a nationally representative sample of SFAs, this study will be one of the first FNS studies of SFA procurement practices for school meal programs to comprehensively examine food service management companies, group purchasing agreements, recordkeeping, local food purchases, and food purchase specifications.

The Richard B. Russell National School Lunch Act and Child Nutrition Act provide the legislative authority for the NSLP and the SBP. FNS administers the NSLP and the SBP at the Federal level, in addition to other meal programs at schools, including the SFSP, Child and Adult Care Food Program (CACFP), and Special Milk Program for Children (SMP). At the State level, school meal programs are administered by State agencies (typically State Departments of Education or Agriculture). Approximately 20,000 SFAs, which can consist of a school, school district, or multiple districts, are responsible for administering and ensuring eligibility is met for the school meal programs, including procurement. School food procurement consists mainly of commercial food purchases, but USDA Foods also make up a portion of the items purchased. For each meal served by the NSLP, the SFA receives entitlement dollars to purchase USDA Foods, which can include purchasing items directly from the USDA or diverting bulk ingredients for further processing. SFAs can also use their entitlement dollars to purchase fresh produce from the USDA Department of Defense Fresh Fruit and Vegetable program (USDA DoD Fresh) or the Fresh Fruit and Vegetable Program (FFVP). Additionally, some SFAs contract with an FSMC to manage on-site operations, including procurement; others enter into group purchasing agreements or use procurement methods such as small and micro-purchases.

The objectives of the study include the following:

• Identify and describe the means through which self-operating SFAs develop and publish solicitations, evaluate and award contracts, and monitor procurement contracts for all school food purchases.

• Identify and describe the rationale, procedures, and recordkeeping practices used by SFAs with respect to their contracts with FSMCs.

• Identify and describe the forms of cooperative purchasing arrangements SFAs use to purchase food products and services.

• Assess the strengths and weaknesses of SFAs with respect to procurement-related expertise in developing solicitation and contract documents, evaluating bids/responses, negotiating terms and conditions, and assessing the availability of State agency-provided technical assistance and training resources.

The SFA Procurement Practices Study will assist FNS to better understand SFA procurement practices by identifying the ways SFAs make decisions about procuring goods and services and the outcomes of such decisions.

The activities to be undertaken subject to this notice include (1) conducting a structured web survey of approximately 560 SFA Child Nutrition Directors, and (2) conducting in-depth interviews with 100 SFA Child Nutrition Directors, a subsample of the 560 SFA Child Nutrition Directors that completed the structured web survey.

The original 60-Day Notice for this study was published in the Federal Register on May 30, 2017. Although the information collection request for the Study of SFA Procurement Practices was submitted to the Office of Management and Budget for review, it was not submitted within a year of the publication of the notice. Due to this, FNS is republishing the 60-Day Notice for comment.

Affected Public: State, Local, and Tribal Governments.

Type of Respondents: SFA Child Nutrition Directors.

Estimated Total Number of Respondents: The estimated total number of unique respondents is 760. This figure includes 620 respondents and 140 non-respondents, as well as pretest respondents and State agency contacts. The estimated total number of participants for the web survey is 700 (560 respondents and 140 non-respondents at a response rate of 80 percent). The estimated total number of participants for the in-depth interviews is 125 (100 respondents and 25 non-respondents at a response rate of 80 percent).

Estimated Frequency of Responses per Respondent: Respondents (SFA Child Nutrition Directors) will be asked to complete each data collection instrument (web survey and IDI) no more than one time. Respondents may be asked to respond to only the web survey or to both the web survey and the IDI. FNS estimates that respondents will average 7.6 responses (5,813/760) across the entire collection, with respondents averaging 6.1 responses (3,779/620) and non- respondents averaging 14.53 responses (2,034/140).

For the web survey, all 700 potential respondents will receive a pre-survey notification letter, a Frequently Asked Questions document, and a pre-survey notification email. These materials will explain the study and survey, and encourage and remind the respondent to complete the survey. During the data collection period, a first reminder email will be sent to an estimated 350 potential respondents who, at that point in time, have yet to complete the web survey. Later in the data collection period, a second reminder email will be sent to an estimated 247 potential respondents who, at that point in time, have yet to complete the web survey. An estimated 175 potential respondents will receive a phone call with a reminder to complete the web survey. Upon completion of the web survey data collection period, the estimated 56 respondents will receive a post-survey response clarification communication and an estimated 11 of these respondents will receive a clarification phone call. Thank you emails will be sent to the estimated 560 respondents who were sent a response clarification email. Respondents that received a response clarification phone call will be thanked for their participation in the survey at the end of the call.

For the in-depth interviews, 125 of the estimated 560 respondents to the web survey will receive a pre-interview notification letter and will include the Frequently Asked Questions document that they received prior to the web survey. These materials will explain the purpose of the interview and why they were chosen for the interview, and will encourage them to participate. Next, each of the 125 potential interviewees will receive a pre-interview scheduling phone call. The purpose of the call will be to further encourage their participation and to schedule the interview. A reminder email will be sent to and a second pre-interview scheduling phone call will be attempted with an estimated 50 potential respondents who, at that point in time, have yet to schedule an interview. After the scheduling calls, the estimated 100 respondents who agree to and schedule an interview will be sent a participant confirmation email. At the completion of the interview, the respondents will be thanked for their participation; thank you emails will be sent out after the interview.

Estimated Total Annual Responses: The estimated total number of responses across all categories is 5,813. This includes 3,779 for respondents and 2,034 for non-respondents.

Estimate of Time per Response per Respondent: The estimated time per response for all respondents is 13.09 minutes (1,268.47 hours/5,813 responses). That total includes the estimated time per response for respondents of 19.16 minutes (1,207.01 hours/3,779 responses) and the estimated time per response for non-respondents of 1.81 minutes (61.46 hours/2,034 responses).

Estimated Total Annual Burden Hours on Respondents: The estimated total annual burden hours expected across all respondents is 1,268.47 hours. The estimated burden for each type of response is given in the table below (Exhibit 1).

Dated: August 10, 2018.
Brandon Lipps,
Administrator, Food and Nutrition Service.

BILLING CODE 3410-30-P

[FR Doc. 2018-17840 Filed 8-17-18; 8:45 am]

BILLING CODE 3410-30-C